DEPARTMENT OF HEALTH AND HUMAN SERVICES

National Institutes of Health

National Cancer Institute; Notice of Closed Meetings

Pursuant to section 1009 of the Federal Advisory Committee Act, as amended, notice is hereby given of the following meetings.

The meetings will be closed to the public in accordance with the provisions set forth in sections 552b(c)(4) and 552b(c)(6), title 5 U.S.C., as amended. The grant applications and contract proposals and the discussions could disclose confidential trade secrets or commercial property such as patentable material, and personal information concerning individuals associated with the grant applications and contract proposals, the disclosure of which would constitute a clearly unwarranted invasion of personal privacy.

Name of Committee: National Cancer Institute Special Emphasis Panel; TEP 2A: SBIR Review Meeting.

Date: February 24, 2025.

Time: 11:00 a.m. to 3:00 p.m.

Agenda: To review and evaluate contract proposals.

Address: National Cancer Institute at Shady Grove, 9609 Medical Center Drive, Room 7W534, Rockville, Maryland 20850.

Meeting Format: Virtual Meeting.

Contact Person: Ivan Ding, M.D., Health Scientist Administrator, Division of Extramural Activities, Program and Review Extramural Staff Training Office, National Cancer Institute, NIH, 9609 Medical Center Drive, Room 7W534, Rockville, Maryland 20850, 240-276-6444, dingi@mail.nih.gov.

Name of Committee: National Cancer Institute Special Emphasis Panel; TEP-4: SBIR Contract Review Meeting.

Date: February 25-26, 2025.

Time: 10:00 a.m. to 6:00 p.m.

Agenda: To review and evaluate contract proposals.

Address: National Cancer Institute at Shady Grove, 9609 Medical Center Drive, Room 7W534, Rockville, Maryland 20850.

Meeting Format: Virtual Meeting.

Contact Person: Jeffrey E. DeClue, Ph.D., Scientific Review Officer, Research Technology and Contract Review Branch, Division of Extramural Activities, Division of Extramural Activities, Program and Review Extramural Staff Training Office, National Cancer Institute, NIH, 9609 Medical Center Drive, Room 7W238, Rockville, Maryland 20850, 240-276-6371, decluej@mail.nih.gov.

Name of Committee: National Cancer Institute Special Emphasis Panel; TEP 2B: SBIR Review Meeting.

Date: February 25, 2025.

Time: 11:00 a.m. to 3:00 p.m.

Agenda: To review and evaluate contract proposals.

Address: National Cancer Institute at Shady Grove, 9609 Medical Center Drive, Room 7W534, Rockville, Maryland 20850.

Meeting Format: Virtual Meeting.

Contact Person: Ivan Ding, M.D., Health Scientist Administrator, Division of Extramural Activities, Program and Review Extramural Staff Training Office, National Cancer Institute, NIH, 9609 Medical Center Drive, Room 7W534, Rockville, Maryland 20850, 240-276-6444, dingi@mail.nih.gov.

Name of Committee: National Cancer Institute Special Emphasis Panel; TEP 5A: SBIR Review Meeting.

Date: March 3, 2025.

Time: 11:00 a.m. to 4:00 p.m.

Agenda: To review and evaluate contract proposals.

Address: National Cancer Institute at Shady Grove, 9609 Medical Center Drive, Room 7W534, Rockville, Maryland 20850.

Meeting Format: Virtual Meeting.

Contact Person: Ivan Ding, M.D., Health Scientist Administrator, Division of Extramural Activities, Program and Review Extramural Staff Training Office, National Cancer Institute, NIH, 9609 Medical Center Drive, Room 7W534, Rockville, Maryland 20850, 240-276-6444, dingi@mail.nih.gov.

Name of Committee: National Cancer Institute Special Emphasis Panel; TEP 5B: SBIR Review Meeting.

Date: March 4, 2025.

Time: 11:00 a.m. to 4:00 p.m.

Agenda: To review and evaluate contract proposals.

Address: National Cancer Institute at Shady Grove, 9609 Medical Center Drive, Room 7W534, Rockville, Maryland 20850.

Meeting Format: Virtual Meeting.

Contact Person: Ivan Ding, M.D., Health Scientist Administrator, Division of Extramural Activities, Program and Review Extramural Staff Training Office, National Cancer Institute, NIH, 9609 Medical Center Drive, Room 7W534, Rockville, Maryland 20850, 240-276-6444, dingi@mail.nih.gov.

Name of Committee: National Cancer Institute Special Emphasis Panel; Innovative Molecular and Cellular Analysis Technologies.

Date: March 4-5, 2025.

Time: 11:00 a.m. to 5:00 p.m.

Agenda: To review and evaluate grant applications.

Address: National Cancer Institute at Shady Grove, 9609 Medical Center Drive, Room 7W246, Rockville, Maryland 20850.

Meeting Format: Virtual Meeting.

Contact Person: Jun Fang, Ph.D., Scientific Review Officer, Research Technology and Contract Review Branch, Division of Extramural Activities, National Cancer Institute, NIH, 9609 Medical Center Drive, Room 7W246, Rockville, Maryland 20850, 240-276-5460, jfang@mail.nih.gov.

Name of Committee: National Cancer Institute Special Emphasis Panel; Assay Validation of High-Quality Markers for Clinical Studies in Cancer (UH2/UH3).

Date: March 5, 2025.

Time: 11:00 a.m. to 4:00 p.m.

Agenda: To review and evaluate grant applications.

Address: National Cancer Institute at Shady Grove, 9609 Medical Center Drive, Room 7W552, Rockville, Maryland 20850.

Meeting Format: Virtual Meeting.

Contact Person: Xiaozhong Alex Bao, Ph.D., Scientific Review Officer, Program Coordination and Referral Branch, Division of Extramural Activities, National Cancer Institute, NIH, 9609 Medical Center Drive, Room 7W552, Rockville, Maryland 20850, 240-276-5070, Baox@mail.nih.gov.

Name of Committee: National Cancer Institute Special Emphasis Panel; Translational Research Toward Development of a Kaposi Sarcoma Herpesvirus (KSHV) Vaccine.

Date: March 11, 2025.

Time: 10:00 a.m. to 4:00 p.m.

Agenda: To review and evaluate grant applications.

Address: National Cancer Institute at Shady Grove, 9609 Medical Center Drive, Room 7W634, Rockville, Maryland 20850.

Meeting Format: Virtual Meeting.

Contact Person: Michael E. Lindquist, Ph.D., Scientific Review Officer, Research Programs Review Branch, Division of Extramural Activities, National Cancer Institute, NIH, 9609 Medical Center Drive, Room 7W634, Rockville, Maryland 20850, mike.lindquist@nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: December 18, 2024.
David W. Freeman,
Supervisory Program Analyst, Office of Federal Advisory Committee Policy.

[FR Doc. 2024-30711 Filed 12-23-24; 8:45 am]

BILLING CODE 4140-01-P